DEPARTMENT OF COMMERCE

International Trade Administration

A-588-046

Polychloroprene Rubber from Japan: Final Changed Circumstances Review and Determination to Revoke Finding in Part

AGENCY: Import Administration, International Trade Administration, Department of Commerce.

EFFECTIVE DATE: September 29, 2006.

SUMMARY: On August 11, 2006, the Department of Commerce (the Department) published a notice of initiation and preliminary results of a changed circumstances review with intent to revoke, in part, the antidumping duty (AD) finding on polychloroprene rubber from Japan. See Polychloroprene Rubber from Japan: Notice of Initiation and Preliminary Results of Changed Circumstances Review, and Intent to Revoke Finding in Part, 71 FR 46189 (August 11, 2006) (Initiation and Preliminary Results). We are now revoking this finding in part, with regard to certain polychloroprene rubber products from Japan, as described in the “Scope of Changed Circumstances Review” section of this notice, based on the fact that domestic parties have expressed no further interest in the relief provided by the finding with respect to the imports of such products.

FOR FURTHER INFORMATION CONTACT: Maisha Cryor or Mark Manning, AD/CVD Operations, Office 4, Import Administration, International Trade Administration, U.S. Department of Commerce, 14th Street and Constitution Avenue, NW., Washington DC 20230; telephone (202) 482-5831 and (202) 482-5253, respectively.

SUPPLEMENTARY INFORMATION:

Background

On June 30, 2006, the Department received a request on behalf of the petitioner, DuPont Performance Elastomers L.L.C. (DuPont), for revocation in part of the AD finding on polychloroprene rubber from Japan pursuant to sections 751(b)(1) and 782(h) of the Tariff Act of 1930, as amended (the Act). DuPont requested partial revocation of the finding with respect to certain polychloroprene rubber products, listed below in the section entitled “Scope of Changed Circumstances Review.” In its June 30, 2006, submission, Dupont stated that it no longer has any interest in antidumping relief from imports of such polychloroprene rubber from Japan. On August 11, 2006, the Department published a notice of initiation and preliminary results of a changed circumstances review with intent to revoke, in part, the AD finding on polychloroprene rubber from Japan. See Initiation and Preliminary Results. The Department provided interested parties with a deadline to submit written comments no later than 14 days after the date of publication of the Initiation and Preliminary Results. Id., 71 FR at 46190. No party commented on the Department's preliminary results of changed circumstances review.

Scope of Changed Circumstances Review

The merchandise subject to DuPont's request and covered by this changed circumstances review is polychloroprene rubber from Japan with (1) aqueous dispersions of polychloroprenes that are dipolymers of chloroprene and methacrylic acid, where the dispersion has a pH of 8 or lower (this category is limited to aqueous dispersions of these polymers and does not include aqueous dispersions of these polychloroprenes that contain comonomers other than methacrylic acid); (2) aqueous dispersions of polychloroprenes that are dipolymers of chloroprene and 2,3-dichlorobutadiene-1,3 modified with xanthogen disulfides, where the dispersion has a solids content of greater than 59 percent (this category is limited to aqueous dispersions of these polymers and does not include aqueous dispersions of polychloroprenes that contain comonomers other than 2,3-dichlorobutadiene-1,3); and (3) solid polychloroprenes that are dipolymers of chloroprene and 2,3-dichlorobutadiene-1,3 having a 2,3-dichlorobutadiene-1,3 content of 15 percent or greater (this category is limited to polychloroprenes in solid form and does not include aqueous dispersions). This changed circumstances administrative review covers polychloroprene rubber from Japan meeting the specifications as described above. Effective upon publication of this final results of changed circumstances review in the Federal Register, the amended scope of the finding will read as identified in the following section of this notice:

Scope of the Finding (As Amended By These Final Results of Changed Circumstances)

Imports covered by this finding are shipments of polychloroprene rubber, an oil resistant synthetic rubber also known as polymerized chlorobutadiene or neoprene, currently classifiable under items 4002.41.00, 4002.49.00, 4003.00.00 of the Harmonized Tariff Schedule of the United States (HTSUS). HTSUS item numbers are provided for convenience and customs purpose. The Department's written description of the scope remains dispositive.

In addition, the following types of polychloroprene rubber from Japan are excluded from the scope of the finding: (1) aqueous dispersions of polychloroprenes that are dipolymers of chloroprene and methacrylic acid, where the dispersion has a pH of 8 or lower (this category is limited to aqueous dispersions of these polymers and does not include aqueous dispersions of these polychloroprenes that contain comonomers other than methacrylic acid); (2) aqueous dispersions of polychloroprenes that are dipolymers of chloroprene and 2,3-dichlorobutadiene-1,3 modified with xanthogen disulfides, where the dispersion has a solids content of greater than 59 percent (this category is limited to aqueous dispersions of these polymers and does not include aqueous dispersions of polychloroprenes that contain comonomers other than 2,3-dichlorobutadiene-1,3); and (3) solid polychloroprenes that are dipolymers of chloroprene and 2,3-dichlorobutadiene-1,3 having a 2,3-dichlorobutadiene-1,3 content of 15 percent or greater (this category is limited to polychloroprenes in solid form and does not include aqueous dispersions).

Final Results of Review; Partial Revocation of Antidumping Duty Finding

The affirmative statement of no interest by the petitioner concerning certain polychloroprene rubber from Japan, as described herein, constitutes changed circumstances sufficient to warrant revocation of this finding in part. The Department received no comments contesting the petitioner's statement of no interest. Therefore, the Department is partially revoking the finding with respect to certain polychloroprene rubber from Japan with regard to products which meet the specifications detailed above, in accordance with sections 751(b) and (d) and 782(h) of the Act and 19 CFR 351.216(d) 351.222(g). We will instruct the U.S. Customs and Border Protection to liquidate without regard to antidumping duties, as applicable, and to refund any estimated antidumping duties collected for all unliquidated entries of certain polychloroprene rubber, meeting the specifications indicated above, as of the date of publication in the Federal Register of the final results of this changed circumstances review in accordance with 19 CFR 351.222(g)(4).

This notice serves as a reminder to parties subject to administrative protective orders (APOs) of their responsibility concerning the disposition of proprietary information disclosed under APO in accordance with 19 CFR 351.306. Timely written notification of the return/destruction of APO materials or conversion to judicial protective order is hereby requested. Failure to comply with the regulations and terms of an APO is a sanctionable violation.

This changed circumstances review, partial revocation of the AD duty finding and notice are in accordance with sections 751(b) and (d) and 782(h) of the Act and sections 351.216(e) and 351.222(g) of the Department's regulations.

Dated: September 22, 2006.
David M. Spooner,
Assistant Secretary for Import Administration.

[FR Doc. E6-16068 Filed 9-28-06; 8:45 am]

BILLING CODE 3510-DS-S